SOCIAL SECURITY ADMINISTRATION

Agency Information Collection Activities; Proposed Request and Comment Request

The Social Security Administration (SSA) publishes a list of information collection packages requiring clearance by the Office of Management and Budget (OMB) in compliance with Public Law 104-13, the Paperwork Reduction Act of 1995, effective October 1, 1995. This notice includes a request for one extension and two revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA. Fax: 202-395-6974. E-mail address: oira_submission@omb.eop.gov.

(SSA)

Social Security Administration, DCBFM, Attn: Reports Clearance Officer, 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than August 15, 2011. Individuals can obtain copies of the collection instruments by calling the SSA Reports Clearance Officer at 410-965-8783 or by writing to the above e-mail address.

1. Application for Benefits under a U.S. International Social Security Agreement—20 CFR 404.1925—0960-0448. Section 233(a) of the Social Security Act (Act) authorizes the President to broker international Social Security agreements (totalization agreements) between the United States and foreign countries. SSA collects information using form SSA-2490-BK to determine entitlement to Social Security benefits from the United States, or from a country that enters into a totalization agreement with the United States. The respondents are individuals applying for Old Age Survivors and Disability Insurance (OASDI) benefits from the United States or from a totalization agreement country.

Type of Request: Revision of an OMB-approved information collection.

Form number | Number of respondents | Frequency of response | Average burden per response (minutes) | Total annual burden (hours)
SSA-2490-BK (Modernized Claims System) | 14,000 | 1 | 30 | 7,000
SSA-2490-BK (paper) | 2,000 | 1 | 30 | 1,000
Totals | 16,000 |  |  | 8,000

2. Plan for Achieving Self-Support (PASS)—20 CFR 416.110(e), 416.1180-1182, 416.1225-1227—0960-0559. The Supplemental Security Income (SSI) program encourages recipients to return to work. One of the program objectives is to provide incentives and opportunities that help recipients to do this. The PASS provision allows individuals to use available income or resources (such as business equipment, education, or specialized training) to enter (or re-enter) the workforce and become self-supporting. In turn, SSA does not count the income or resources recipients use to fund a PASS when determining an individual's SSI eligibility or payment amount. An SSI recipient who wants to use available income and resources to obtain education or training to become self-supporting completes the SSA-545. SSA uses the information from the SSA-545 to evaluate the recipient's plan for achieving self-support, and to determine eligibility under the provisions of the SSI program. The respondents are SSI recipients who are blind or disabled and want to develop a plan to work.

Type of Request: Extension of an OMB-approved information collection.

Number of Respondents: 7,000.

Frequency of Response: 1.

Average Burden Per Response: 2 hours.

Estimated Annual Burden: 14,000 hours.

II. SSA submitted the information collection below to OMB for clearance. Your comments regarding the information collection would be most useful if OMB and SSA receive them within 30 days from the date of this publication. To be sure we consider your comments, we must receive them no later than July 15, 2011. Individuals can obtain copies of the OMB clearance package by calling the SSA Reports Clearance Officer at 410-965-8783 or by writing to the above e-mail address.

Representative Payee Report—Adult, Representative Payee Report—Child, Representative Payee Report—Organizational Representative Payees—20 CFR 404.635, 404.2035, 404.2065, and 416.665—0960-0068. When SSA determines it is not in an OASDI or SSI recipient's best interest to receive Social Security payments directly, the agency will designate a representative payee for the recipient. The representative payee can be: (1) A family member; (2) a non-family member who is a private citizen and is acquainted with the beneficiary; (3) an organization; (4) a state or local government agency; or (5) a business. In the capacity of representative payee, the person or organization receives the SSA payments directly and manages these payments for the recipient. As part of its stewardship mandate, SSA must ensure the representative payees are properly using the payments they receive for the recipients they represent. The agency annually collects the information necessary to make this assessment using the SSA-623, Representative Payee Report—Adult; SSA-6230, Representative Payee Report—Child; SSA-6234, Representative Payee Report—Organizational Representative Payee; and through the Internet Representative Payee Accounting (iRPA) application. The respondents are representative payees of OASDI and SSI recipients.

Type of Request: Revision to an OMB-approved information collection.

Form No. | Number of respondents | Frequency of response | Average burden per response (minutes) | Total annual burden (hours)
SSA-623 | 2,378,400 | 1 | 15 | 594,600
SSA-6230 | 2,875,900 | 1 | 15 | 718,975
SSA-6234 | 702,100 | 1 | 15 | 175,525
iRPA* | 652,500 | 1 | 15 | 163,125
Totals | 6,608,900 |  |  | 1,652,225
* One Internet platform encompasses all three paper forms.

Dated: June 9, 2011.
Liz Davidson,
Center Director, Center for Reports Clearance, Social Security Administration.

[FR Doc. 2011-14741 Filed 6-14-11; 8:45 am]

BILLING CODE 4191-02-P